Title 3—

The President

Executive Order 13578 of July 6, 2011

Coordinating Policies on Automotive Communities and Workers

By the authority vested in me as President by the Constitution and the laws of the United States of America, it is hereby ordered as follows:

Section 1. Policy. Over the last decade, the United States has experienced a decline in employment in the automotive industry and among part suppliers. This decline accelerated dramatically from 2008 to 2009, with more than 400,000 jobs being lost in the industry. Now, 2 years later, the American automotive industry is beginning to recover. The automotive industry has, over the past 2 years, experienced its strongest period of job growth since the late 1990s. Exports have expanded, and the domestic automakers in 2010 gained market share for the first time since 1995. The automotive supply chain, which employs three times as many workers as the automakers, has also shown renewed strength. However, we still have a long way to go.

Over the past 2 years my Administration has undertaken coordinated efforts on behalf of automotive communities, including targeted technical and financial assistance. For example, the Department of Labor set aside funds for green jobs and job training for high-growth sectors of the economy specifically targeted to communities affected by the automotive downturn, and the Department of Commerce provided funds specifically for automotive communities to develop plans for economic recovery. Stabilizing the automotive industry will also require the use of expanded strategies by automotive communities that include land-use redevelopment, small business support, and worker training.

The purpose of this order is to continue the coordinated Federal response to factors affecting automotive communities and workers and to ensure that Federal programs and policies address these concerns.

Sec. 2. Assignment of Responsibilities to the Secretary of Labor.

(a) The Secretary of Labor shall:

(i) work to coordinate the development of policies and programs among executive departments and agencies with the goal of coordinating a Federal response to factors that have a distinct impact on automotive communities and workers, including through the coordination of economic adjustment assistance activities;

(ii) advise the President, in coordination with the Director of the National Economic Council, on the potential effects of pending legislation;

(iii) provide recommendations to the President, in coordination with the Director of the National Economic Council, on executive branch policy proposals affecting automotive communities and changes to Federal policies and programs intended to address issues of special importance to automotive communities and workers; and

(iv) conduct outreach to representatives of nonprofit organizations, businesses, labor organizations, State and local government agencies, elected officials, and other interested persons that will assist in bringing to the President's attention concerns, ideas, and policy options for expanding and improving efforts to revitalize automotive communities.

(b) The Secretary of Labor shall perform the functions assigned by this order in coordination with the Director of the National Economic Council. The Secretary of Labor may delegate these responsibilities to the Executive Director of the Department of Labor Office of Recovery for Auto Communities and Workers.

Sec. 3. Revocation. Executive Order 13509 of June 23, 2009, is hereby revoked.

Sec. 4. General Provisions. (a) The heads of executive departments and agencies shall assist and provide information to the Secretary of Labor or the Secretary's designee, consistent with applicable law, as may be necessary to carry out the responsibilities assigned by this order.

(b) Nothing in this order shall be construed to impair or otherwise affect:

(i) authority granted by law to an executive department, agency, or the head thereof; or

(ii) functions of the Director of the Office of Management and Budget relating to budgetary, administrative, or legislative proposals.

(c) This order shall be implemented consistent with applicable law and subject to the availability of appropriations.

(d) This order is not intended to, and does not, create any right or benefit, substantive or procedural, enforceable at law or in equity by any party against the United States, its departments, agencies, or entities, its officers, employees, or agents, or any other person.

THE WHITE HOUSE,

July 6, 2011.

[FR Doc. 2011-17447

Filed 7-8-11; 8:45 am]

Billing code 3195-W1-P